DEPARTMENT OF AGRICULTURE

Office of the Secretary

Intergovernmental Advisory Committee

AGENCY: Office of the Secretary, USDA.

ACTION: Notice of intent to renew Federal Advisory Committee.

SUMMARY: The Department of Agriculture, in consultation with the Department of the Interior, intends to renew the Intergovernmental Advisory Committee (IAC). This renewal is in response to the continued need for the IAC to provide intergovernmental advice on coordinating the implementation of the Record of Decision of April 13, 1994, for Management of Habitat for Late-Successional and Old-Growth Forest Related Species Within the Range of the Northern Spotted Owl. The IAC also provides advice and recommendations to promote integration and coordination of forest management activities between Federal and non-Federal entities.

ADDRESSES: Copies of the April 13, 1994, Record of Decision can be obtained electronically at http://www.reo.gov/library/reports/newsandga.pdf. Paper copies can be obtained from the Office of Strategic Planning, P.O. Box 3623, Portland, OR 97208.

FOR FURTHER INFORMATION CONTACT: Geraldine Bower, Planning Specialist, Ecosystem Management Coordination Staff, Forest Service, USDA (202) 205-1022.

SUPPLEMENTARY INFORMATION: Pursuant to the Federal Advisory Committee Act (5 U.S.C. App.), notice is hereby given that the Department of Agriculture, in consultation with the Department of the Interior, intends to renew the Intergovernmental Advisory Committee (IAC) to the Regional Interagency Executive Committee (RIEC). The purpose of the RIEC is to facilitate the coordinated implementation of the Record of Decision (ROD) signed April 13, 1994, for Management of Habitat for Late-Successional and Old-Growth Forest Related Species Within the Range of the Northern Spotted Owl. The RIEC consists of representatives of the following Federal agencies: Forest Service, Natural Resources Conservation Service, Bureau of Indian Affairs, Bureau of Land Management, National Marine Fisheries Service, National Park Service, U.S. Fish and Wildlife Service, U.S. Geological Survey Biological Resources Division, Environmental Protection Agency, and U.S. Army Corps of Engineers. The purpose of the IAC is to advise the RIEC on coordinating the implementation of the ROD. The IAC will provide advice and recommendations to promote integration and coordination of forest management activities between Federal and non-Federal entities.

The IAC is in the public interest in connection with the duties and responsibilities of the managing agencies for developing an ecosystem management approach that is consistent with statutory authority for land use planning. Ecosystem management at the province level requires improved coordination among governmental entities responsible for land management decisions and the public they serve (provinces are defined in the ROD at E19).

The chair of the IAC will alternate annually between representatives of the Forest Service and the Bureau of Land Management. The Executive Director, Regional Ecosystem Office, will serve as the Designated Federal Official under sections 10(e) and (f) of the Federal Advisory Committee Act (5 U.S.C. App.). Any vacancies on the committee will be filled in the manner in which the original appointment was made.

A meeting notice will be published in the Federal Register within 15 to 45 days before a scheduled meeting date. All meetings are generally open to the public and may include a “public forum” that may offer 5-10 minutes for participants to present comments to the advisory committee. Alternates may choose not to be active during this session on the agenda. The chair of the given committee ultimately makes the decision whether to offer time on the agenda for the public to speak to the general body.

Renewal of the IAC does not require amendment of Bureau of Land Management or Forest Service planning documents because it does not affect the standards and guidelines or land allocations. The Bureau of Land Management and Forest Service will provide further notice, as needed, for additional actions or adjustments when implementing interagency coordination, public involvement, and other aspects of the ROD.

Equal opportunity practices will be followed in all appointments to the advisory committee. To ensure that the recommendations of the IAC have taken into account the needs of diverse groups served by the Departments, membership will, to the extent practicable, include individuals with demonstrated ability to represent minorities, women, and persons with disabilities.

Dated: March 12, 2003.
Clyde Thompson,
Associate Assistant Secretary for Administration.

[FR Doc. 03-6770 Filed 3-20-03; 8:45 am]

BILLING CODE 3410-11-P